NATIONAL SCIENCE FOUNDATION

Advisory Committee for Computer and Information Science and Engineering; Notice of Meeting

In accordance with Federal Advisory Committee Act (Pub. L. 92-463, as amended), the National Science Foundation announces the following meeting:

Name: Advisory Committee for Computer and Information Science and Engineering (1115).

Date/Time: Oct 31, 2013: 12:30 p.m. to 6:00pm.; Nov 1, 2013: 8:30 a.m. to 2:00 p.m.

Place: National Science Foundation, 4201 Wilson Boulevard, Suite 1235, Arlington, Virginia 22203.

Type of Meeting: Open.

Contact Person: Carmen Whitson, National Science Foundation, 4201 Wilson Boulevard, Suite 1105, Arlington, Virginia 22203 703/292-8900.

Purpose Of Meeting: To advise NSF on the impact of its policies, programs and activities on the CISE community. To provide advice to the Assistant Director for CISE on issues related to long-range planning, and to form ad hoc subcommittees and working groups to carry out needed studies and tasks.

Agenda:

• Overview of CISE FY 2014 budget priorities and programmatic updates

• Working group breakout sessions

• Update from CISE Vision 2025 working group

• Update from Mid-Scale Infrastructure subcommittee

• Welcome from Dr. Cora Marrett, NSF Acting Director

• Closing remarks and wrap up

Dated: September 30, 2013.
Susanne Bolton,
Committee Management Officer.

[FR Doc. 2013-24277 Filed 10-3-13; 8:45 am]

BILLING CODE 7555-01-P